DEPARTMENT OF ENERGY

Federal Energy Regulatory Commission

Notice of FERC Staff Attendance At Southwest Power Pool Independent Coordinator of Transmission (ICT) Stakeholders' Policy Committee Meeting

June 10, 2008.

The Federal Energy Regulatory Commission hereby gives notice that members of its staff may attend the meeting noted below. Their attendance is part of the Commission's ongoing outreach efforts.

ICT Stakeholders Policy Committee Meeting

June 19, 2008 (9 a.m.-3 p.m. CST), Sheraton North Hilton, 15700 JFK Boulevard, Houston, TX 77032.

The discussions may address matters at issue in the following proceedings:

Docket No. EL07-52: Louisiana Public Service Commission v. Entergy Services, Inc.

Docket No. OA07-32: Entergy Services, Inc.

Docket No. ER05-1065: Entergy Services, Inc.

Docket No. EL00-66: Louisiana Public Service Commission v. Entergy.

Docket No. EL95-33: Louisiana Public Service Commission v. Entergy.

Docket No. ER00-2854: Louisiana Public Service Commission v. Entergy.

Docket No. EL05-15: Arkansas Electric Cooperative, Corp. v. Entergy Arkansas, Inc.

Docket No. ER06-1555: Entergy Services, Inc.

Docket No. ER08-845: Entergy Services, Inc.

Docket No. ER08-844: Entergy Services, Inc.

Docket No. ER08-885: Entergy Gulf States Louisiana, LLC.

Docket No. ER03-583: Entergy Services, Inc.

Docket No. ER08-879: Entergy Services, Inc.

Docket No. ER01-2214: Entergy Services, Inc.

Docket No. ER07-628: Entergy Arkansas, Inc.

Docket No. ER07-629: Entergy Arkansas, Inc.

Docket No. ER07-630: Entergy Arkansas, Inc.

Docket No. EL08-50: Louisiana Public Service Commission v. System Energy Resources.

Docket No. EL08-51: Louisiana Public Service Commission v. Entergy Services, Inc.

Docket No. EL08-59: ConocoPhillips v. Entergy Services, Inc.

Docket No. EL08-60: Union Electric v. Entergy Services, Inc.

Docket No. ER08-750: Entergy Services, Inc.

Docket No. ER08-751: Entergy Services, Inc.

Docket No. ER08-752: Entergy Services, Inc.

Docket No. OA08-92: Entergy Services, Inc.

Docket No. OA08-75: Entergy Services, Inc.

Docket No. ER08-572: Entergy Services, Inc.

Docket No. ER08-927: Entergy Services, Inc.

Docket No. OA08-59: Entergy Services, Inc.

Docket No. ER07-1252: Entergy Services, Inc.

Docket No. EL03-230: ExxonMobil v. Entergy.

Docket No. ER08-774: Entergy Services, Inc.

Docket No. ER08-1006: Entergy Services, Inc.

Docket No. ER08-1040: Entergy Services, Inc.

Docket No. ER08-1041: Entergy Services, Inc.

Docket No. ER08-1056: Entergy Services, Inc.

Docket No. ER08-1057: Entergy Services, Inc.

These meetings are open to the public.

For more information, contact Amy Demetry, Office of Energy Market Regulation, Federal Energy Regulatory Commission at (202) 502-6090 or Amy.Demetry@ferc.gov.

Kimberly D. Bose,
Secretary.

[FR Doc. E8-13536 Filed 6-16-08; 8:45 am]

BILLING CODE 6717-01-P